DEPARTMENT OF HEALTH AND HUMAN SERVICES

Health Resources and Services Administration

Sickle Cell Disease Treatment Demonstration Program

AGENCY: Health Resources and Services Administration (HRSA), Department of Health and Human Services (HHS).

ACTION: Request for Class Deviation for Non-Competitive Extension: Sickle Cell Disease Treatment Demonstration Program (U1E) Awards to Three Currently Funded Grantees.

SUMMARY: HRSA currently has nine programs that are funded through competitive grant awards under the Sickle Cell Disease Treatment Demonstration Program. Three of these awards will end on August 31, 2013, prior to the end of the other six awards. HRSA intends to implement a non-competitive extension of the project period for the three grants that will end in 2013. This will allow improved data gathering from each of the grantees in the program, which will be used in a report for Congress that is mandated by the legislation authorizing the grant. In addition, the program will benefit from cost savings realized from having the program completed in a consolidated funding cycle.

SUPPLEMENTARY INFORMATION: Intended Recipients of the Award: The three incumbent grantees of record (listed below).

Amount of the Non-Competitive Awards: Up to $390,000 per grantee.

CFDA Number: 93.365.

Period of Supplemental Funding: 9/1/2013-8/30/2014.

Authority: Section 712(c) of the American Jobs Creation Act of 2004, Pub. L. 108-357.

Justification: The Sickle Cell Disease Treatment Demonstration Program provides grants to evaluate the use of strategies in improving sickle cell care. The extension will allow the Maternal and Child Health Bureau to fully assess the impact of the program by allowing data to be gathered on the health outcomes and impact of the Sickle Cell Disease Treatment Demonstration Program from all grantees on the same timeline and in a standard format. Currently, three grantees are scheduled to end prior to the end of the other grantees, leaving a period in which data would not be gathered from these sites. Data gathered from each of the grantees in the program will be used in a report for Congress that is mandated by the legislation authorizing the grant. In addition, the program will benefit from cost savings realized from having the program completed in a consolidated funding cycle.

FOR FURTHER INFORMATION CONTACT: Edward Donnell Ivy, M.D., M.P.H, Genetic Services Branch, Division of Services for Children with Special Health Needs, Maternal and Child Health Bureau, Health Resources and Services Administration, 5600 Fishers Lane, Room 18A-19, Rockville, MD 20857; 301.443.9775; eivy@hrsa.gov.

Maternal and Child Health Bureau Selected Programs Extensions With Funding
Grantee/organization name | Grant No. | State | Project start date | Project end date | Revised project end date | FY 2012 Appropriation | FY 2013 Appropriation
Children's Hospital & Research Center | U1EMC16492 | CA | 9/1/2009 | 8/31/2013 | 8/30/2014 | $390,000 | $390,000
University of Colorado at Denver | U1EMC16490 | CO | 9/1/2009 | 8/31/2013 | 8/30/2014 | 390,000 | 390,000
Newark Beth Israel Medical Center | U1EMC16491 | NJ | 9/1/2009 | 8/31/2013 | 8/30/2014 | 390,000 | 390,000

Dated: July 17, 2013.
Mary K. Wakefield,
Administrator.

[FR Doc. 2013-17720 Filed 7-23-13; 8:45 am]

BILLING CODE 4165-15-P